DEPARTMENT OF JUSTICE

Office of Justice Programs

[OJP (NIJ) Docket No. 1685]

Selection and Application Guide to Ballistic-Resistant Body Armor

AGENCY: National Institute of Justice, DOJ.

ACTION: Notice.

SUMMARY: The National Institute of Justice (NIJ) announces publication of Selection and Application Guide to Ballistic-Resistant Body Armor for Law Enforcement, Corrections and Public Safety, NIJ Selection and Application Guide-0101.06. The document can be found here: https://www.ncjrs.gov/pdffiles1/nij/247281.pdf. NIJ has developed this document to provide guidance concerning the selection, procurement, use, care and maintenance, and other considerations related to ballistic-resistant body armor. NIJ Guide-0101.06 is a companion document to NIJ Standard-0101.06, Ballistic Resistance of Body Armor.

The previous guide published by NIJ on body armor, NIJ Guide 100-01, Selection and Application Guide to Personal Body Armor, was released in 2001. NIJ Guide-0101.06 incorporates new knowledge about ballistic-resistant armor that has been gained in the intervening 13 years as the result of both NIJ-funded research and research funded by others. Whereas NIJ Guide 100-01 deals with both ballistic- and stab-resistant armor, NIJ Guide-0101.06 deals only with ballistic-resistant armor. It supersedes those portions of NIJ Guide 100-01 that deal with ballistic-resistant armor. It does not supersede those portions that deal with stab-resistant armor. A separate guide on stab-resistant armor will be published when NIJ Standard-0115.00, Stab Resistance of Personal Body Armor, is updated. For more information about NIJ standards, please visit http://nij.gov/standards.

FOR FURTHER INFORMATION CONTACT: Michael O'Shea, by telephone at (202) 305-7954 [Note: this is not a toll-free telephone number], or by email at Michael.O'Shea@ojp.usdoj.gov.

William Sabol,
Acting Director, National Institute of Justice.

[FR Doc. 2015-02640 Filed 2-9-15; 8:45 am]

BILLING CODE 4410-18-P